ENVIRONMENTAL PROTECTION AGENCY

40 CFR Parts 52 and 81

[EPA-R09-OAR-2019-0609; FRL-10012-54-Region 9]

Maintenance Plan and Redesignation Request for the Ajo PM10 Planning Area; Arizona

AGENCY: Environmental Protection Agency (EPA).

ACTION: Final rule.

SUMMARY: The Environmental Protection Agency (EPA) is taking final action to approve the “Ajo PM10 Redesignation Request and Maintenance Plan (May 3, 2019)” (“Ajo PM10 Maintenance Plan” or “Plan”) as a revision to the state implementation plan (SIP) for the State of Arizona. The Ajo PM10 Maintenance Plan includes, among other elements, an emissions inventory consistent with attainment, a maintenance demonstration, contingency provisions, and a demonstration that contributions from motor vehicle emissions to PM10 in the Ajo planning area are insignificant. The EPA is also approving the State of Arizona's request to redesignate the Ajo planning area from nonattainment to attainment for the national ambient air quality standards (NAAQS or “standards”) for particulate matter of ten microns or less (PM10). Lastly, the EPA is taking final action to delete the area designation for Ajo for the revoked NAAQS for total suspended particulate (TSP) because the designation is no longer necessary. The EPA is finalizing these actions because the SIP revision meets the applicable requirements under the Clean Air Act (CAA or “Act”) for maintenance plans and because the State has met the requirements under the Act for redesignation of a nonattainment area to attainment with respect to the Ajo planning area.

DATES: This rule is effective on September 3, 2020.

ADDRESSES: The EPA has established a docket for this action under Docket ID No. EPA-R09-OAR-2019-0609. All documents in the docket are listed on the https://www.regulations.gov website. Although listed in the index, some information is not publicly available, e.g., Confidential Business Information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information.

FOR FURTHER INFORMATION CONTACT: Ashley Graham, Air Planning Office (AIR-2), EPA Region IX, 75 Hawthorne Street, San Francisco, CA 94105, (415) 972-3877, or by email at graham.ashleyr@epa.gov.

SUPPLEMENTARY INFORMATION: Throughout this document, “we,” “us,” and “our” refer to the EPA.

Table of Contents

I. Summary of Proposed Action

II. Public Comments

III. Final Action

IV. Statutory and Executive Order Reviews

I. Summary of Proposed Action

On June 4, 2020 (85 FR 34381), under CAA section 110(k)(3), the EPA proposed to approve the Ajo PM10 Maintenance Plan submitted by the Arizona Department of Environmental Quality (ADEQ) on May 10, 2019, as a revision to the Arizona SIP.¹ In so doing, we found that the Ajo PM10 Maintenance Plan adequately demonstrates that the area will maintain the PM10 NAAQS for 10 years beyond redesignation and includes sufficient contingency provisions to promptly correct any violation of the PM10 standards that occurs after redesignation, and thereby meets the requirements for maintenance plans under CAA section 175A. We also proposed to approve the attainment inventory as meeting the requirements of CAA section 172(c)(3), and to approve the demonstration that the PM10 contributions from motor vehicle emissions to PM10 in the Ajo planning area are insignificant.

¹ ADEQ submitted the Ajo PM10 Maintenance Plan electronically to the EPA on May 10, 2019. ADEQ's transmittal letter for the Ajo PM10 Maintenance Plan is dated May 8, 2019.

In our June 4, 2020 proposed rule, under CAA section 107(d)(3)(D), we proposed to grant the ADEQ's request to redesignate the Ajo PM10 planning area from “nonattainment” to “attainment” for the PM10 standards. We proposed to do so based on our conclusion that the Ajo planning area has attained the PM10 standards based on the most recent three-year period (2017-2019) of quality-assured, certified, and complete PM10 data; that the relevant portions of the Arizona SIP are, or will be as part of this action, fully approved; that the improvement in air quality is due to permanent and enforceable emissions reductions; ² that Arizona has met all requirements applicable to the Ajo planning area with respect to section 110 and part D of the CAA if we finalize our approval of the attainment inventory in the Ajo PM10 Maintenance Plan; that based on our proposed approval as described above, the Ajo PM10 Maintenance Plan meets the requirements for maintenance plans under section 175A of the CAA; and that therefore, Arizona has met the criteria for redesignation under CAA section 107(d)(3)(E) for the Ajo PM10 planning area.

² As discussed in our proposal, the Pima County Board of Supervisors adopted Pima County Code (PCC) Section 17.16.125 (“Inactive Mineral Tailings Impoundment and Slag Storage Area within the Ajo PM10 Planning Area”) to provide for continued maintenance and enforcement of measures already implemented to control windblown dust from the tailings impoundment and slag storage area (85 FR 34381, 34382). On June 23, 2020, the Region IX Regional Administrator signed a final rule approving PCC Section 17.16.125 as a revision to the Arizona SIP. The signed final rule has not yet been published in the Federal Register, but upon its effective date, the requirements therein will become permanent and enforceable for the purposes of CAA section 107(d)(3)(E)(iii).

Lastly, we proposed to delete the area designation for Ajo for the revoked NAAQS for TSP.

Please see our June 4, 2020 proposed rule for a detailed discussion of the background for these actions, and the rationale for approval of the Ajo PM10 Maintenance Plan, for granting the ADEQ's request for redesignation of the Ajo planning area to attainment, and for deleting the TSP designation for Ajo.

II. Public Comments

Our June 4, 2020 proposed rule provided a 30-day public comment period that closed on July 6, 2020. We received one comment during this period from the Pima Association of Governments supporting our proposal to find that the Ajo PM10 Maintenance Plan adequately demonstrates that PM10 contributions from motor vehicle emissions to the PM10 air quality problem in the Ajo nonattainment area are insignificant.

III. Final Action

Under CAA section 110(k)(3), and for the reasons set forth in our June 4, 2020 proposed rule, the EPA is taking final action to approve the Ajo PM10 Maintenance Plan as a revision to the Arizona SIP. The EPA finds that the maintenance demonstration showing how the area will continue to attain the 24-hour PM10 NAAQS for 10 years beyond redesignation, and the contingency provisions describing the actions that the ADEQ will take in the event of a future monitored violation, meet all applicable requirements for maintenance plans and related contingency provisions in CAA section 175A. The EPA is also approving the attainment inventory as meeting the requirement of CAA section 172(c)(3), and the demonstration that the PM10 contributions from motor vehicle emissions to PM10 in the Ajo planning area are insignificant.

Second, under CAA section 107(d)(3)(D), we are taking final action to grant ADEQ's request, which accompanied the submittal of the maintenance plan, to redesignate the Ajo PM10 nonattainment area to attainment for the 24-hour PM10 NAAQS. We are doing so based on our conclusion that the area has met the five criteria for redesignation under CAA section 107(d)(3)(E). Our conclusion in this regard is in turn based on our determination that the area has attained the 24-hour PM10 NAAQS; that relevant portions of the Arizona SIP are, or will be as part of this action, fully approved; that the improvement in air quality is due to permanent and enforceable reductions in emissions; that Arizona has met all requirements applicable to the Ajo PM10 planning area with respect to section 110 and part D of the CAA upon final approval of the attainment inventory in the Ajo PM10 Maintenance Plan; and based on our approval (as part of this action) of the Ajo PM10 Maintenance Plan.

Lastly, the EPA is taking final action to delete the area designation for Ajo for the revoked national standards for TSP because the designation is no longer necessary.

IV. Statutory and Executive Order Reviews

Under the CAA, redesignation of an area to attainment and the accompanying approval of a maintenance plan under section 107(d)(3)(E) are actions that affect the status of a geographic area and do not impose any additional regulatory requirements on sources beyond those imposed by state law. Redesignation to attainment does not in and of itself create any new requirements, but rather results in the applicability of requirements contained in the CAA for areas that have been redesignated to attainment. Moreover, the Administrator is required to approve a SIP submission that complies with the provisions of the Act and applicable federal regulations. 42 U.S.C. 7410(k); 40 CFR 52.02(a). Thus, in reviewing SIP submissions, the EPA's role is to approve state choices, provided that they meet the criteria of the CAA. Accordingly, these actions merely approve a state plan and redesignation request as meeting federal requirements and do not impose additional requirements beyond those imposed by state law. For these reasons, these actions:

• Are not a significant regulatory action subject to review by the Office of Management and Budget under Executive Orders 12866 (58 FR 51735, October 4, 1993) and 13563 (76 FR 3821, January 21, 2011);

• Are not an Executive Order 13771 (82 FR 9339, February 2, 2017) regulatory action because SIP approvals are exempted under Executive Order 12866;

• Does not impose an information collection burden under the provisions of the Paperwork Reduction Act (44 U.S.C. 3501 et seq.);

• Are certified as not having a significant economic impact on a substantial number of small entities under the Regulatory Flexibility Act (5 U.S.C. 601 et seq.);

• Do not contain any unfunded mandate or significantly or uniquely affect small governments, as described in the Unfunded Mandates Reform Act of 1995 (Pub. L. 104-4);

• Do not have federalism implications as specified in Executive Order 13132 (64 FR 43255, August 10, 1999);

• Are not an economically significant regulatory action based on health or safety risks subject to Executive Order 13045 (62 FR 19885, April 23, 1997);

• Are not a significant regulatory action subject to Executive Order 13211 (66 FR 28355, May 22, 2001);

• Are not subject to requirements of Section 12(d) of the National Technology Transfer and Advancement Act of 1995 (15 U.S.C. 272 note) because application of those requirements would be inconsistent with the CAA; and

• Do not provide the EPA with the discretionary authority to address, as appropriate, disproportionate human health or environmental effects, using practicable and legally permissible methods, under Executive Order 12898 (59 FR 7629, February 16, 1994).

In addition, there are no areas of Indian country within the Ajo planning area, and the state plan is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000), because redesignation is an action that affects the status of a geographical area and does not impose any new regulatory requirements on tribes, affect any existing sources of air pollution on tribal lands, nor impair the maintenance of NAAQS in tribal lands.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by October 5, 2020. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2)).

List of Subjects

40 CFR Part 52

Environmental protection, Air pollution control, Incorporation by reference, Intergovernmental relations, Nitrogen dioxide, Particulate matter, Reporting and recordkeeping requirements, Sulfur dioxide, Volatile organic compounds.

40 CFR Part 81

Environmental protection, Air pollution control, National parks, Wilderness areas.

Authority: 42 U.S.C. 7401 et seq.

Dated: July 17, 2020.
Deborah Jordan,
Acting Regional Administrator, Region IX.

For the reasons stated in the preamble, the EPA amends Chapter I, title 40 of the Code of Federal Regulations as follows:

PART 52—APPROVAL AND PROMULGATION OF IMPLEMENTATION PLANS

1. The authority citation for part 52 continues to read as follows:

Authority: 42 U.S.C 7401 et seq.

Subpart D—Arizona

2. In § 52.120 amend paragraph (e) by adding to table 1, under the table heading “Part D Elements and Plans (Other than for the Metropolitan Phoenix or Tucson Areas)” an entry for “SIP Revision: Ajo PM10 Redesignation Request and Maintenance Plan (May 3, 2019) (excluding Appendix C)” after the entry for “Arizona State Implementation Plan Revision: Miami Sulfur Dioxide Nonattainment Area for the 2010 SO2 NAAQS, excluding Appendix D” to read as follows.

§ 52.120 Identification of plan.

* * * * *

(e) * * *

Table 1—EPA-Approved Non-Regulatory and Quasi-Regulatory Measures
[Excluding certain resolutions and statutes, which are listed in tables 2 and 3, respectively] ¹
Name of SIP provision | Applicable geographic or nonattainment area or title/subject | State submittal date | EPA approval date | Explanation
* * * * * * *
Part D Elements and Plans (Other than for the Metropolitan Phoenix or Tucson Areas)
* * * * * * *
SIP Revision: Ajo PM10 Redesignation Request and Maintenance Plan (May 3, 2019) (excluding Appendix C) | Ajo PM10 Air Quality Planning Area | May 10, 2019 | August 4, 2020, [Insert Federal Register citation] | Appendix C includes Pima County Code (PCC) Section 17.16.125 and the related public process documentation. PCC Section 17.16.125 was approved in a separate action and is listed in table 7 of 40 CFR 52.120(c). ADEQ's submittal letter date is the same as the date of adoption, May 8, 2019. Submitted electronically on May 10, 2019.
* * * * * * *
¹ Table 1 is divided into three parts: Clean Air Act Section 110(a)(2) State Implementation Plan Elements (excluding Part D Elements and Plans), Part D Elements and Plans (other than for the Metropolitan Phoenix or Tucson Areas), and Part D Elements and Plans for the Metropolitan Phoenix and Tucson Areas.

* * * * *

PART 81—DESIGNATION OF AREAS FOR AIR QUALITY PLANNING PURPOSES

3. The authority citation for part 81 continues to read as follows:

Authority: 42 U.S.C 7401 et seq.

Subpart C—Section 107 Attainment Status Designations

4. Section 81.303 is amended by:

a. Removing in the table under “Arizona—TSP,” the entry for “Ajo”;

b. Revising in the table under “Arizona—TSP,” the entry for “Rest of State”; and

c. Revising in the table under “Arizona—PM-10,” the entry under Pima County for “Ajo planning area”.

The revisions read as follows:

§ 81.303 Arizona.

Arizona—TSP
Designated area | Does not meet primary standards | Does not meet secondary standards | Cannot be classified | Better than national standards
* * * * * * *
Rest of State ² |  |  |  | ¹ X
¹ EPA designation replaces State designation.
² Excluding Ajo (T12S, R6W).

* * * * *

Arizona—PM-10
Designated area | Designation: Date | Designation: Type | Classification: Date | Classification: Type
* * * * * * *
Pima County:
* * * * * * *
Ajo planning area | September 3, 2020 | Attainment
Township T12S, R6W, and the following sections of Township T12S, R5W:
a. Sections 6-8
b. Sections 17-20, and
c. Sections 29-32
* * * * * * *

* * * * *

[FR Doc. 2020-15970 Filed 8-3-20; 8:45 am]

BILLING CODE 6560-50-P